DEPARTMENT OF VETERANS AFFAIRS

[OMB Control No. 2900-0649]

Agency Information Collection (National Registry of Veterans With Amyotrophic Lateral Sclerosis) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before December 21, 2009.

ADDRESSES: Submit written comments on the collection of information through http://www.Regulations.gov; or to VA's OMB Desk Officer, OMB Human Resources and Housing Branch, New Executive Office Building, Room 10235, Washington, DC 20503, (202) 395-7316. Please refer to “OMB Control No. 2900-0649” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-0649.”

SUPPLEMENTARY INFORMATION: Titles:

a. ALS Registry Screening Form, VA Form 10-21047.

b. Biannual Telephone National Registry of Veterans with ALS, VA Form 10-21047a.

c. Verbal Informed Consent VIA Telephone, National Registry of Veterans with ALS, VA Form 10-21047b.

OMB Control Number: 2900-0649.

Type of Review: Extension of a currently approved collection.

Abstract: ALS is a disease of high priority to the Department of Veterans Affairs because of ongoing concerns about the health of veterans who served in the Gulf War. The creation of the registry will have significance both for VA and for the larger U.S. society in understanding the natural history of ALS. It will provide VA with crucial epidemiological data on the current population of veterans with ALS, as well as the ongoing identification of new cases. The data will help VA to understand how veterans are affected by ALS and may assist with early identification of new ALS clusters. This registry will provide a mechanism for informing veterans with ALS of new clinical drug trials and other studies.

An agency may not conduct or sponsor, and a person is not required to respond to a collection of information unless it displays a currently valid OMB control number. The Federal Register Notice with a 60-day comment period soliciting comments on this collection of information was published on September 14, 2009, at page 47042.

Affected Public: Individuals or households.

Estimated Annual Burden: 882.

Estimated Average Burden Per Respondent: 29 minutes.

Frequency of Response: Semi-annually.

Estimated Number of Respondents: 1,808.

Dated: November 16, 2009.
By direction of the Secretary.
Denise McLamb,
Program Analyst, Enterprise Records Service.

[FR Doc. E9-27784 Filed 11-18-09; 8:45 am]

BILLING CODE 8320-01-P